FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center Web site at www.ffiec.gov/nic/.

Unless otherwise noted, comments regarding each of these applications must be received at the Reserve Bank indicated or the offices of the Board of Governors not later than June 18, 2007.

A. Federal Reserve Bank of Richmond (A. Linwood Gill, III, Vice President) 701 East Byrd Street, Richmond, Virginia 23261-4528:

1. United Bankshares, Inc., Charleston, West Virginia, and George Mason Bankshares, Inc., Fairfax, Virginia; to merge with Premier Community Bankshares, Inc., Winchester, Virginia, and thereby indirectly acquire voting shares of The Marathon Bank, Winchester, Virginia; Rockingham Heritage Bank, Harrisonburg, Virginia; and Premier Bank, Inc., Martinsburg, West Virginia.

B. Federal Reserve Bank of Atlanta (David Tatum, Vice President) 1000 Peachtree Street, N.E., Atlanta, Georgia 30309:

1. Pinnacle Financial Corporation, Elberton, Georgia; to merge with Georgia Central Bancshares, Inc., and thereby acquire voting shares of Georgia Central Bank, both of Social Circle, Georgia.

C. Federal Reserve Bank of St. Louis (Glenda Wilson, Community Affairs Officer) 411 Locust Street, St. Louis, Missouri 63166-2034:

1. MRV Financial Corp, Genevieve, Missouri; to become a bank holding company by acquiring 100 percent of the voting shares of MRV Banks,. Genevieve, Missouri (in organization).

D. Federal Reserve Bank of Kansas City (Donna J. Ward, Assistant Vice President) 925 Grand Avenue, Kansas City, Missouri 64198-0001

1. First Centralia Bancshares, Inc., Centralia, Kansas; to acquire 100 percent of the voting shares of Vermillion Bankshares, Inc., and thereby indirectly acquire Vermillion State Bank, both in Vermillion, Kansas.

E. Federal Reserve Bank of San Francisco (Tracy Basinger, Director, Regional and Community Bank Group) 101 Market Street, San Francisco, California 94105-1579:

1. Franklin Resources, Inc., San Mateo, California; to retain 16 percent of the voting shares of The BANKshares, Inc., Melbourne, Florida, and thereby indirectly retain shares of The Bank Brevard, Melbourne, Florida, and BankFIRST, Winter Park, Florida.

Board of Governors of the Federal Reserve System, May 18, 2007.
Jennifer J. Johnson,
Secretary of the Board.

[FR Doc. E7-9936 Filed 05-22-07; 8:45 am]

BILLING CODE 6210-01-S